DEPARTMENT OF DEFENSE

GENERAL SERVICES ADMINISTRATION

NATIONAL AERONAUTICS AND SPACE ADMINISTRATION

48 CFR Parts 9 and 52

[FAR Case 2007-018; Docket 2008-0002; Sequence 1]

RIN 9000-AK98

Federal Acquisition Regulation; FAR Case 2007-018, Organizational Conflicts of Interest

AGENCIES: Department of Defense (DoD), General Services Administration (GSA), and National Aeronautics and Space Administration (NASA).

ACTION: Advance notice of proposed rulemaking; Reopening of comment period.

SUMMARY: The Civilian Agency Acquisition Council and the Defense Acquisition Regulations Council (the Councils) are seeking information that will assist in determining whether the Federal Acquisition Regulation System's current guidance on organizational conflicts of interest (OCIs) adequately addresses the current needs of the acquisition community or whether providing standard provisions and/or clauses, or a set of such standard provisions and clauses, might be beneficial. The comment period is reopened an additional 30 days to provide additional time for interested parties to review and comment on the Advance notice of proposed rulemaking.

DATES: Comment Date: Interested parties should submit written comments to the FAR Secretariat at the address shown below on or before July 18, 2008 to be considered in the formulation of a proposed rule.

ADDRESSES: Submit comments identified by FAR case 2007-018 by any of the following methods:

• Regulations.gov: http://www.regulations.gov.

Submit comments via the Federal eRulemaking portal by inputting “FAR Case 2007-018” under the heading “Comment or Submission”. Select the link “Send a Comment or Submission” that corresponds with FAR Case 2007-018. Follow the instructions provided to complete the “Public Comment and Submission Form”. Please include your name, company name (if any), and “FAR Case 2007-018” on your attached document.

• Fax: 202-501-4067.

• Mail: General Services Administration, Regulatory Secretariat (VPR), 1800 F Street, NW., Room 4041, ATTN: Laurieann Duarte, Washington, DC 20405.

Instructions: Please submit comments only and cite FAR case 2007-018 in all correspondence related to this case. All comments received will be posted without change to http://www.regulations.gov, including any personal and/or business confidential information provided. Please include your name and company name (if any) inside the document.

FOR FURTHER INFORMATION CONTACT: Meredith Murphy, Procurement Analyst, at (202) 208-6925 for clarification of content. For information pertaining to status or publication schedules, contact the FAR Secretariat at (202) 501-4755. Please cite FAR case 2007-018.

SUPPLEMENTARY INFORMATION: The Councils published an Advance notice of proposed rulemaking in the Federal Register at 73 FR 15962, March 26, 2008. To allow additional time for interested parties to review the Advance notice of proposed rulemaking and submit comments, the comment period is reopened for an additional 30 days.

Dated: June 11, 2008.
Al Matera,
Director, Office of Acquisition Policy.

[FR Doc. E8-13724 Filed 6-17-08; 8:45 am]

BILLING CODE 6820-EP-S